SMALL BUSINESS ADMINISTRATION

[Declaration of Disaster #3448; Amendment #1]

State of Texas

In accordance with a notice received from the Federal Emergency Management Agency, dated September 30, 2002, the above numbered declaration is hereby amended to establish the incident period for this disaster as beginning on September 6, 2002, and continuing through September 30, 2002.

All other information remains the same, i.e., the deadline for filing applications for physical damage is November 25, 2002, and for economic injury the deadline is June 26, 2003.

(Catalog of Federal Domestic Assistance Program Nos. 59002 and 59008)
Dated: October 3, 2002.
Herbert L. Mitchell,
Associate Administrator for Disaster Assistance.

[FR Doc. 02-25688 Filed 10-8-02; 8:45 am]

BILLING CODE 8025-01-P